ENVIRONMENTAL PROTECTION AGENCY

40 CFR Part 52

[EPA-R09-OAR-2016-0164; FRL-9946-358-Region 9]

Determination of Attainment of the 1-Hour Ozone National Ambient Air Quality Standard in the San Joaquin Valley Nonattainment Area in California

AGENCY: Environmental Protection Agency (EPA).

ACTION: Proposed rule.

SUMMARY: The Environmental Protection Agency (EPA) is proposing to determine that the San Joaquin Valley nonattainment area has attained the 1-hour ozone National Ambient Air Quality Standard. This proposed determination is based on the most recent three-year period (2012-2014) of sufficient, quality-assured, and certified data. Preliminary data for 2015 are consistent with continued attainment of the standard in the San Joaquin Valley.

DATES: Any comments must arrive by June 17, 2016.

ADDRESSES: Submit your comments, identified by Docket ID No. EPA-R09-OAR-2016-0164 at http://www.regulations.gov, or via email to lee.anita@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, please contact the person identified in the FOR FURTHER INFORMATION CONTACT section. For the EPA's full public comment policy, information about CBI or multimedia submissions, and general guidance on making effective comments, please visit http://www2.epa.gov/dockets/commenting-epa-dockets.

FOR FURTHER INFORMATION CONTACT: Anita Lee, (415) 972-3958, or by email at lee.anita@epa.gov.

SUPPLEMENTARY INFORMATION: Throughout this document whenever “we,” “us,” or “our” is used, we mean the EPA.

Table of Contents

I. Background

II. The EPA's Analysis

A. Analysis of Ambient Air Quality Data

B. Analysis of 1-Hour Ozone Trends in the San Joaquin Valley

C. Analysis of Monitoring Network Adequacy

III. Proposed Action and Request for Public Comment

IV. Statutory and Executive Order Reviews

I. Background

The Clean Air Act (CAA or “Act”) requires the EPA to establish National Ambient Air Quality Standards (NAAQS or “standards”) for certain widespread pollutants, such as ozone, that cause or contribute to air pollution that is reasonably anticipated to endanger public health or welfare.¹ In 1979, we promulgated an ozone NAAQS of 0.12 parts per million (ppm), one-hour average (“1-hour ozone standard”).²

¹ See sections 108 and 109 of the Act.

² See 44 FR 8202, February 8, 1979.

An area is considered to have attained the 1-hour ozone standard if there are no violations of the standard, as determined in accordance with the regulation codified at 40 CFR 50.9, based on three consecutive calendar years of complete, quality-assured and certified monitoring data. A violation occurs when the ambient ozone air quality monitoring data show greater than one (1.0) “expected number” of exceedances per year at any site in the area, when averaged over three consecutive calendar years. An “expected number” of exceedances is a statistical term that refers to an arithmetic average. An “expected number” of exceedances may be equivalent to the number of observed exceedances plus an increment that accounts for incomplete sampling.³ An exceedance occurs when the maximum hourly ozone concentration during any day exceeds 0.124 ppm.⁴

³ See 40 CFR part 50, appendix H. Because, in this context, the term “exceedances” refers to days (during which the daily maximum hourly ozone concentration exceeded 0.124 ppm), the maximum possible number of exceedances in a given year is 365 (or 366 in a leap year).

⁴ For more information, please see “National 1-hour primary and secondary ambient air quality standards for ozone” (40 CFR 50.9) and “Interpretation of the 1-Hour Primary and Secondary National Ambient Air Quality Standards for Ozone” (40 CFR part 50, appendix H).

The Act, as amended in 1990, required the EPA to designate as nonattainment any ozone areas that were still designated nonattainment under the 1977 Act Amendments, and any other areas violating the 1-hour ozone standard, generally based on air quality monitoring data from the 1987 through 1989 period.⁵ The 1990 CAA Amendments further classified these areas, based on the severity of their nonattainment problem, as Marginal, Moderate, Serious, Severe, or Extreme.

⁵ See section 107(d)(4) of the Act. See also 56 FR 56694, November 6, 1991.

The control requirements and date by which attainment of the one-hour ozone standard was to be achieved varied with an area's classification. Marginal areas were subject to the fewest mandated control requirements and had the earliest attainment date, November 15, 1993, while Severe and Extreme areas were subject to more stringent planning requirements and were provided more time to attain the standard.

The San Joaquin Valley (SJV or “Valley”) covers approximately 23,000 square miles and includes all of Fresno, Kings, Madera, Merced, San Joaquin, Stanislaus, and Tulare counties, as well as the western half of Kern County.⁶ The Valley is home to approximately four million residents. On November 6, 1991, the EPA classified the San Joaquin Valley as “Serious” nonattainment for the 1-hour ozone standard with an applicable attainment date of November 15, 1999.⁷ The Valley was later reclassified by operation of law as “Severe” based on our determination that the Valley had failed to attain the standard by the 1999 deadline.⁸ Later, the EPA approved a request by the State of California to reclassify the Valley as “Extreme” for the 1-hour ozone standard, with an applicable attainment date of November 15, 2010.⁹

⁶ See 40 CFR 81.305.

⁷ See 56 FR 56694, November 6, 1991.

⁸ See 66 FR 56476, November 8, 2001.

⁹ See 69 FR 20550, April 16, 2004.

In 1997, the EPA promulgated an 8-hour ozone standard of 0.08 ppm (“1997 8-hour ozone standard”), to replace the 1-hour ozone standard.¹⁰ Although the 1-hour ozone standard was revoked in 2005, we continue to determine whether areas attain, or fail to attain, the 1-hour ozone standard. This is because, under the EPA's regulations governing the transition from implementation of the revoked ozone standard to implementation of the replacement ozone standard, “anti-backsliding” provisions require the continued applicability of certain 1-hour ozone control requirements in areas, such as the San Joaquin Valley, that are designated as nonattainment for the 1997 8-hour ozone standard and the connection between some of those requirements and attainment of the 1-hour ozone standard.¹¹ In 2008, we tightened the 8-hour ozone standard (“2008 8-hour ozone standard”),¹² and in 2015, we revoked the 1997 8-hour ozone standard, but the principles of anti-backsliding continue to apply to both revoked ozone standards.¹³

¹⁰ See 62 FR 38856, July 18, 1997.

¹¹ See, generally, 40 CFR 51.905.

¹² 73 FR 16436 (March 27, 2008).

¹³ 80 FR 12264 (March 6, 2015). See, generally, 40 CFR 51.1105.

In this action, we are proposing to determine that the San Joaquin Valley has attained the 1-hour ozone standard. Under 40 CFR 50.1118, if this action is finalized as proposed and to the extent not already fulfilled, the requirement for this area to submit an attainment demonstration and associated planning requirements related to attainment of the 1-hour ozone standard, including reasonably available control measures, reasonable further progress plans, contingency measures for failure to attain, or make reasonable progress, shall be suspended until such time as the area is redesignated as attainment for the current ozone NAAQS or a redesignation substitute for the 1-hour ozone standard is approved, at which time the requirements no longer apply.¹⁴ If, however, prior to such redesignation or approval of such redesignation substitute, the EPA determines that the area has violated the 1-hour ozone NAAQS, then the area is again required to submit such attainment-related plans.

¹⁴ See 40 CFR 50.1118 and 80 FR 12264, March 6, 2015.

Over the decades since the 1990 CAA Amendments, despite high rates of growth in population and regional vehicle miles traveled (VMT), 1-hour ozone concentrations in San Joaquin Valley have decreased, primarily due to emissions reductions from mobile source and consumer product control measures adopted by the California Air Resources Board (CARB) and from stationary source control measures adopted by the San Joaquin Valley Air Pollution Control District (SJVAPCD or “District”). For instance, despite regional growth, 1-hour ozone exceedance-days within the Valley (i.e., number of days in a year during which the 0.12 ppm standard was violated at a (i.e., at least one) monitoring site) decreased from 45 in 1990 to 7 in 2010.¹⁵ Nonetheless, upon review of the ambient data for the three years preceding the November 15, 2010 attainment date (i.e., 2008-2010), we determined that the San Joaquin Valley failed to attain the 1-hour ozone standard by that date.¹⁶

¹⁵ See table A-1 in appendix A to the San Joaquin Valley 2013 Plan for the Revoked 1-Hour Ozone Standard, adopted by the District on September 19, 2013.

¹⁶ See 76 FR 82133, December 30, 2011.

Since then, the trend towards fewer 1-hour ozone exceedance-days has continued, and on February 11, 2016, CARB requested that the EPA determine that the San Joaquin Valley has attained the 1-hour ozone standard (also referred to as a “clean data determination”).¹⁷ As part of its request for a clean data determination for the 1-hour ozone standard for the San Joaquin Valley, CARB submitted its own staff report and appendices, a letter dated July 13, 2015 from the District to the EPA and CARB requesting a clean data determination, the District's staff report to support its clean data determination request, and an ozone study final report prepared for the District.¹⁸

¹⁷ See Letter from Richard W. Corey, Executive Officer, CARB, to Jared Blumenfeld, Regional Administrator, EPA Region IX, dated February 11, 2016.

¹⁸ See “San Joaquin Valley 1-Hour Ozone Clean Data Determination” dated February 8, 2016, prepared by CARB; “San Joaquin Valley 1-Hour Ozone Clean Data Determination—Appendices” dated February 8, 2016 prepared by CARB; letter from Seyed Sadredin, Executive Officer/Air Pollution Control Officer, San Joaquin Valley Unified Air Pollution Control District, to Jared Blumenfeld, EPA Region IX, and Richard Corey, CARB, dated July 13, 2015; “Attainment Determination Request for the Revoked 1-Hour Ozone Standard” dated July 13, 2015 prepared by the San Joaquin Valley Air Pollution Control District; and “Sonoma Technology, Inc., “Ozone Concentrations In and Around the City of Arvin,” final report prepared for the District, May 2014 (“Arvin Ozone Saturation Study”).

In addition to the request for a clean data determination, the District provided documentation in its staff report intended to support a finding that attainment of the 1-hour ozone standard is due to permanent and enforceable emission reductions. In our final implementation rule for the 2008 ozone standard (80 FR 12264, March 6, 2015), we established a mechanism, referred to as a “redesignation substitute,” through which an area may shift to contingency status those requirements, such as penalty fee program requirements under CAA section 185, to which an area had remained subject under the EPA's anti-backsliding regulations governing the transition from revoked ozone standards (such as the 1-hour ozone standard) to current ozone standards. To invoke this mechanism, a state must submit a demonstration that the area has attained the revoked ozone NAAQS due to permanent and enforceable emission reductions and that the area will maintain the revoked NAAQS for 10 years from the date of the EPA's approval of this showing.¹⁹ In this action, we are not taking action on the District's demonstration that attainment of the 1-hour ozone standard in the San Joaquin Valley is due to permanent and enforceable emission reductions because it is not relevant for the purposes of a clean data determination, but we will consider the District's demonstration in a separate rulemaking if and when it is supplemented with the 10-year maintenance demonstration element also needed to invoke the redesignation substitute mechanism in 40 CFR 51.1105(b).

¹⁹ 40 CFR 51.1105(b).

II. The EPA's Analysis

A determination of whether an area's air quality meets the 1-hour ozone NAAQS is generally based upon three years of complete, quality-assured and certified air quality monitoring data gathered at established State and Local Air Monitoring Stations (SLAMS) in the nonattainment area and entered into the EPA's Air Quality System (AQS) database.²⁰ A determination of whether an area meets the 1-hour ozone standard relies upon a review of the daily maximum ozone levels. Under 40 CFR part 50, appendix H, a daily maximum ozone level is defined to be the highest hourly ozone value recorded for the day. This daily maximum value is considered valid if 75 percent of the hours from 9:01 a.m. to 9:00 p.m. were measured or if the highest hour is greater than the level of the standard. A missing daily maximum ozone value may be assumed to be less than the level of the standard if the valid daily maxima on both the preceding day and the following day do not exceed 75 percent of the NAAQS. Data from air monitors operated by state or local agencies in compliance with the EPA monitoring requirements must be submitted to the AQS database. Monitoring agencies annually certify that these data are accurate to the best of their knowledge. Accordingly, the EPA relies primarily on data in its AQS database when determining the attainment status of an area.²¹

²⁰ Generally, a “complete” data set for determining attainment of the ozone standard is one that includes three years of data with an average percent of days with valid monitoring data greater than 90 percent with no single year less than 75 percent. See 40 CFR part 50, appendix I.

²¹ See 40 CFR 50.9; 40 CFR part 50, appendix H; 40 CFR part 53; 40 CFR part 58, appendices A, C, D and E. All data are reviewed to determine the area's air quality status in accordance with 40 CFR part 50, appendix H.

A. Analysis of Ambient Air Quality Data

When the EPA determined that the San Joaquin Valley had failed to attain the November 15, 2010 attainment date, the Agency made its determination based on 2008 to 2010 data from a network of 22 ozone monitoring sites.²² By 2015, the number of ozone monitoring sites in San Joaquin Valley had increased to 27, 24 of which are designated as regulatory and from which data may be compared to the NAAQS.²³ All of these sites monitor ozone concentrations on a continuous basis using ultraviolet absorption monitors.

²² 76 FR 56694, at 56698 (September 14, 2011).

²³ Relevant changes in the ozone monitoring network include the relocation of the Fresno-North First Street site (AQS ID: 06-019-0008) approximately 0.25 miles north to the Fresno-Garland site (AQS ID: 06-019-0011), the relocation of the Arvin-Bear Mountain site (AQS ID: 06-029-5001) approximately 2 miles north to the Arvin-Di Giorgio site (AQS ID: 06-029-5002), and the establishment of new ozone monitors at Tranquility (AQS ID: 06-019-2009) in Fresno County, at Bakersfield Municipal Airport (AQS ID: 06-029-2012) in Kern County, in the City of Madera (AQS ID: 06-039-2010) in Madera County, and in Porterville (AQS ID: 06-107-2010) in Tulare County.

CARB or SJVAPCD operates 23 of the monitoring sites: Seven within Kern County, six within Fresno County, two within Madera, San Joaquin, Stanislaus, and Tulare counties, and one within Kings and Merced counties.²⁴ CARB annually certifies that the data the agency submits to AQS are quality-assured, including data collected by CARB at monitoring sites in San Joaquin Valley.²⁵ SJVAPCD does the same for monitors operated by the District.²⁶ In addition, the National Park Service (NPS) operates two ozone monitoring sites in Sequoia National Park in Tulare County; the Tachi-Yokut Tribe operates a monitoring site at the Santa Rosa Rancheria in Kings County; and the Chukchansi Indians of California operate a monitoring site at the Picayune Rancheria in Madera County.

²⁴ See figure 1 in SJVAPCD's 2015 Air Monitoring Network Plan (August 28, 2015) for a map of the ambient air monitors in the San Joaquin Valley.

²⁵ See, e.g., letter from Ravi Ramalingam, Chief, Consumer Products and Air Quality Assessment Branch, Air Quality Planning and Science Division, CARB, to Deborah Jordan, Director, Air Division, U.S. EPA Region IX, certifying calendar year 2014 ambient air quality data and quality assurance data, dated May 8, 2015.

²⁶ See, e.g., letter from Sheraz Gill, Director of Strategies and Incentives, letter to Deborah Jordan, Director, Air Division, U.S. EPA Region IX, certifying calendar year 2014 ambient air quality data and quality assurance data, dated July 8, 2015.

The Sequoia National Park—Ash Mountain (AQS ID 06-107-0009) NPS monitoring site is designated as regulatory and comparable to the NAAQS. NPS annually certifies that the data it submits to AQS are quality-assured.²⁷ One NPS site within Tulare County, Sequoia National Park—Lower Kaweah (AQS ID 06-107-0006), is designated as non-regulatory and not comparable to the NAAQS. The EPA notes that the two monitoring sites located in Indian country, Santa Rosa Rancheria (AQS ID 06-031-0500) and Picayune Rancheria (AQS ID 06-019-0500), are designated as non-regulatory and not comparable to the NAAQS.

²⁷ See, e.g., letter from Barkley Sive, Program Manager, NPS, to Lew Weinstock, U.S. EPA, certifying 2014 ozone data, incorrectly dated April 29, 2014, received by EPA via electronic mail on April 30, 2015.

Table 1 summarizes the expected 1-hour ozone exceedances, per year and as an average over the 2012-2014 period, at the regulatory monitoring sites in the San Joaquin Valley. Generally, the highest ozone concentrations in the San Joaquin Valley have occurred in the central and southern portions of the nonattainment area, but in recent years, the highest ozone concentrations have occurred in the central portion of the valley (i.e., within Fresno County). As shown in Table 1, the highest three-year average of expected exceedances at any site in the San Joaquin Valley for 2012-2014 is 0.7 at Fresno—Sierra Skypark in Fresno County. The calculated exceedance rate of 0.7 represents attainment of the 1-hour ozone NAAQS (a three-year average of expected exceedances less than or equal to 1). Thus, taking into account the extent and reliability of the applicable ozone monitoring network, and the data collected and summarized in Table 1, we propose to determine that the San Joaquin Valley has attained the 1-hour ozone NAAQS (as defined in 40 CFR part 50, appendix H). Preliminary 2015 data have not been certified but are consistent with the continued attainment of the 1-hour ozone NAAQS in the San Joaquin Valley.

Table 1—One-Hour Ozone Data for the San Joaquin Valley One-Hour Ozone Nonattainment Area ¹
Site (AQS ID) | Expected exceedances by year: 2012 | Expected exceedances by year: 2013 | Expected exceedances by year: 2014 | Expected exceedances 3-yr average: 2012-2014
FRESNO COUNTY:
Clovis—Villa (06-019-5001) | 0.0 | 0.0 | 0.0 | 0.0
Fresno—Drummond Street (06-019-0007) | 1.0 | 0.0 | 0.0 | 0.3
Fresno—Garland (06-019-0011) | 1.0 | 0.0 | 0.0 | 0.3
Fresno—Sierra Skypark (06-019-0242) | 1.0 | 0.0 | 1.1 | 0.7
Parlier (06-019-4001) | 1.0 | 0.0 | 0.0 | 0.3
Tranquility (06-019-2009) | 0.0 | 0.0 | 0.0 | 0.0
KERN COUNTY:
Arvin—Di Giorgio (06-029-5002) | 0.0 | 0.0 | 0.0 | 0.0
Bakersfield—Muni (06-029-2012) | 0.0 | 0.0 | 0.0 | ² 0.0
Bakersfield—California (06-029-0014) | 0.0 | 0.0 | 0.0 | 0.0
Edison (06-029-0007) | 0.0 | 0.0 | 0.0 | 0.0
Maricopa (06-029-0008) | 0.0 | 0.0 | 0.0 | 0.0
Oildale (06-029-0232) | 0.0 | 0.0 | 0.0 | 0.0
Shafter (06-029-6001) | 0.0 | 0.0 | 0.0 | 0.0
KINGS COUNTY:
Hanford—Irwin (06-031-1004) | 0.0 | 0.0 | 0.0 | 0.0
MADERA COUNTY:
Madera—Pump Yard (06-039-0004) | 0.0 | 0.0 | 0.0 | 0.0
Madera—City (06-039-2010) | 0.0 | 0.0 | 0.0 | 0.0
MERCED COUNTY:
Merced—Coffee (06-047-0003) | 0.0 | 0.0 | 0.0 | 0.0
SAN JOAQUIN COUNTY:
Stockton—Hazelton (06-077-1002) | 0.0 | 0.0 | 0.0 | 0.0
Tracy—Airport (06-077-3005) | 0.0 | 0.0 | 0.0 | 0.0
STANISLAUS COUNTY:
Modesto—14th Street (06-099-0005) | 0.0 | 0.0 | 0.0 | 0.0
Turlock (06-099-0006) | 0.0 | 0.0 | 0.0 | 0.0
TULARE COUNTY:
Porterville (06-107-2010) | 0.0 | 0.0 | 0.0 | 0.0
Sequoia National Park—Ash Mountain (06-107-0009) | 0.0 | 0.0 | 0.0 | 0.0
Visalia—Church Street (06-107-2002) | 0.0 | 0.0 | 0.0 | 0.0
¹ Source: Quicklook Report, “20160311_QLRpt_SJV_1hrO3_2012-2015.pdf,” March 11, 2016; and “20160411_QLRpt_SJV_1hrO3_2012-2015.xlsx,” April 11, 2016 (in the docket for this proposed action).
² Based on CARB's missing data analysis for this site, at most one exceedance could have been recorded during the first half of 2012 if the site had been operational during that period. Assuming such an exceedance had occurred, the 3-year average of expected exceedances for the 2012-2014 period at the Bakersfield-Municipal Airport site would have been 0.3, which is less than the corresponding value at Fresno-Sierra Skypark (0.7) and less than the NAAQS.

As noted above, a “complete” data set for determining attainment of the ozone standard is generally one that includes three years of data with an average percent of days with valid monitoring data greater than 90 percent with no single year less than 75 percent. Based on these criteria, the data summarized in Table 1 from all of the sites meet the criteria over the 2012 to 2014 period except for the Bakersfield—Municipal Airport site (AQS ID: 06-029-2012). The Bakersfield—Municipal Airport site began operation on July 1, 2012 and although completeness was greater than 90 percent for the period of the year it was operating, total completeness for the entire year, including the period prior to establishment of the monitor, was 48 percent. Completeness was greater than 90 percent at the Bakersfield—Municipal Airport site in 2013 and 2014.

To address the data gap at the Bakersfield—Municipal Airport, CARB prepared a missing data analysis to identify an upper bound on the ozone concentrations and exceedance days that might have been recorded at this site during the first half of 2012 if it had been operational during that time.²⁸ To identify an upper bound, CARB calculated the maximum differences between daily maximum 1-hour ozone measurements occurring on the same days from the three surrounding sites (Oildale, Bakersfield—California Avenue, and Edison) and the Bakersfield—Municipal Airport site during the first six months of 2013 and 2014 and applied the maximum differences to the highest daily maximum hourly concentrations measured at the three nearby ozone sites during the first half of 2012. The results showed that at most one exceedance could have been measured at the Bakersfield—Municipal Airport during the first six months of 2012 if it had been operational during that time. Based on our review, we find CARB's methods for estimating an upper bound on ozone concentrations and exceedances at the Bakersfield—Municipal Airport site to be acceptable and agree with CARB's conclusions drawn from the analysis. Thus, we find that incompleteness of the 2012 data set from the Bakersfield—Municipal Airport site does not preclude an attainment determination for the San Joaquin Valley that relies, in part, on 2012 data.

²⁸ See CARB's missing data analysis in appendix A to “San Joaquin Valley 1-Hour Ozone Clean Data Determination” dated February 8, 2016.

B. Analysis of 1-Hour Ozone Trends in the San Joaquin Valley

In support of its request to EPA for a Clean Data Determination, CARB submitted analyses of the 1-hour ozone design value and concentration trends, along with analyses of topography, meteorology, and ozone precursor emissions in the Valley. Based on its analyses, CARB concluded that the ozone site within the Valley with the maximum 1-hour ozone concentration is currently located in the Fresno Metropolitan Statistical Area (MSA). Between 1990 and 2007, the maximum 1-hour ozone concentrations in the Valley alternated between the Bakersfield MSA in the southern portion of the Valley and the Fresno MSA in the central portion of the Valley.²⁹ In 2008 the location of the maximum 1-hour ozone concentration site shifted from the Bakersfield MSA (at the Edison monitoring site for 2006-2007) to the Fresno MSA (at the Clovis—N. Villa Avenue monitoring site in 2008-2010), where it has remained through 2015 (at the Fresno—Sierra Skypark monitoring site in 2012-2014).³⁰ CARB provided detailed evidence that the maximum 1-hour ozone concentrations in the Bakersfield MSA have decreased and the location of the maximum 1-hour ozone concentration has occurred in the Fresno MSA over last seven years (2008-2014).

²⁹ See pp. 21-22, CARB “San Joaquin Valley 1-Hour Ozone Clean Data Determination” dated February 8, 2016.

³⁰ See Table 9, p.22, CARB “San Joaquin Valley 1-Hour Ozone Clean Data Determination” dated February 8, 2016.

CARB's analyses suggest that the Valley's topography, weather, and transport patterns strongly influence the geographic distribution of ozone, resulting in lower levels in the north, with higher levels in the central and southern portions of the Valley. In addition, CARB's analysis of emission inventories show decreasing trends in anthropogenic emissions of nitrogen oxides and reactive organic gases throughout the Valley from 2000 to 2014, with the fastest rates of decrease expected in the Bakersfield MSA, providing further support that the Valley's design value is likely to continue to occur in the Fresno MSA.

The Arvin—Bear Mountain monitoring site in the Bakersfield MSA was closed in 2010. Prior to its ceasing operation, a monitor intended to replace it began operating nearby at the Arvin—Di Giorgio site. The request to replace the Arvin—Bear Mountain monitoring site with the Arvin—Di Giorgio monitoring site and the EPA's analysis of the request are discussed in section II.C., below. At the time of its closure, the Arvin—Bear Mountain monitoring site had not recorded the maximum ozone concentration in the Valley in more than five years. However, in order to ensure that all sites that had been violating the 1-hour ozone NAAQS would be attaining the standard, CARB conducted a detailed analysis of the daily maximum 1-hour ozone concentrations expected at the Arvin—Bear Mountain monitoring site following its closure in 2010 because it had been one of the Valley sites that, in some prior years, recorded the highest ozone concentration in the Valley. CARB conducted rank-by-rank regression analyses and comparisons using 2010 data from the Arvin—Bear Mountain, Arvin—Di Giorgio, and Edison monitoring sites to estimate daily maximum 1-hour ozone concentrations and estimated expected exceedances at the Arvin—Bear Mountain monitoring site for 2011-2015 had the monitor remained operational until this time. CARB's analyses indicated that the Arvin—Bear Mountain monitoring site would have attained the 1-hour ozone NAAQS in the 2012-2014 period and would have continued to attain the standard for 2013-2015 based on the most recent preliminary data for 2015.³¹ CARB's analyses also concluded that the three-year average of estimated expected exceedances of 0.3 at the Arvin—Bear Mountain monitoring site for both the 2012-2014 and 2013-2015 periods would have been less than the corresponding values at the Fresno—Sierra Skypark monitoring site (0.7 for 2012-2014 and 0.4 for 2013-2015).

³¹ See pp. 18-19 and Appendix B, CARB “San Joaquin Valley 1-Hour Ozone Clean Data Determination” dated February 8, 2016.

In addition to CARB's analyses, the District conducted predictive regression calculations of daily maximum 1-hour ozone concentrations for 2012 through 2014 at the Arvin—Bear Mountain and Arvin—Di Giorgio monitoring sites.³² Although the District used different methods, their results are consistent with the results from CARB's analyses, indicating that ozone concentrations at the Arvin—Bear Mountain monitoring site would have attained the 1-hour ozone NAAQS during 2012-2014. The District's analyses also indicate the location of the maximum 1-hour concentration ozone site within the Fresno MSA and provide support for the shift, in 2008, of the Valley's maximum site from the Bakersfield region to the Fresno region. This is further supported by monitoring data at the Arvin—Bear Mountain monitoring site that show that in the last five years of Arvin—Bear Mountain's monitor operation prior to its 2010 closure, the Valley's maximum 1-hour ozone concentration did not occur at the Arvin—Bear Mountain monitoring site.

³² See “Attainment Determination Request for the Revoked 1-Hour Ozone Standard” dated July 13, 2015 prepared by the San Joaquin Valley Air Pollution Control District.

Based on our review of the submitted documentation, we find that CARB's and the District's methods and analyses regarding 1-hour ozone trends in the San Joaquin Valley and estimates of post-2010 ozone concentrations and expected exceedances at the Arvin—Bear Mountain site to be reasonable and agree with the conclusions drawn therefrom.

C. Analysis of Monitoring Network Adequacy

Within the San Joaquin Valley, CARB and the District are jointly responsible for assuring that the area meets air quality monitoring requirements. The SLAMS network of ozone monitors in the Valley includes monitors operated by the District and monitors operated by CARB. The District submits annual monitoring network plans to the EPA. The District's network plans describe the various monitoring sites operated by the District as well as those operated by CARB. These plans discuss the status of the air monitoring network, as required under 40 CFR 58.10.³³

³³ See SJVAPCD's “2015 Air Monitoring Network Plan”, dated August 28, 2015.

The EPA reviews the District's annual network plans and conducts technical systems audits and has generally found the combined ambient air monitoring network meets or exceeds the requirements for the minimum number of SLAMS monitoring sites for ozone and is in compliance with the applicable reporting requirements in 40 CFR part 58 for ozone except for the requirement to identify a maximum concentration ozone site within the Bakersfield MSA.³⁴

³⁴ See, e.g., letter from Deborah Jordan, Director, Air Division, EPA Region IX, to James Goldstene, Executive Officer, California Air Resources Board, dated October 22, 2012, transmitting the findings from the EPA's 2011 Technical Systems Audit.

Specifically, 40 CFR part 58 requires, among other things, that at least one ozone site for each MSA must be designated to record the maximum concentration for that particular area. The closure of the Arvin—Bear Mountain site without subsequent approval of a replacement site prevented the designation of a maximum concentration ozone site for the Bakersfield MSA. On April 29, 2016, CARB submitted a request letter to the EPA for the relocation of the San Joaquin Valley Arvin—Bear Mountain ozone air monitoring site to the Arvin—Di Giorgio air monitoring site, which is 2.2 miles away and began operation prior to closure of the Arvin—Bear Mountain site.³⁵ On May 2, 2016, EPA approved the relocation request based on a thorough review of all nearby available site options.³⁶ Approval of the replacement site for the Arvin—Bear Mountain monitoring site resolves the ozone ambient air monitoring network issue for the Bakersfield MSA. The EPA is determining that the ozone monitoring network in the Valley is adequate based on the following: The foregoing analyses provided by CARB and the District indicating that the Valley's maximum 1-hour ozone concentration site has shifted away from the Bakersfield MSA to sites located in the Fresno MSA and that 1-hour ozone design values that would have occurred at the Arvin—Bear Mountain monitoring site post-2010 are consistent with attainment; the EPA's approval of the Arvin—Bear Mountain monitoring site relocation request; and the fact that the replacement for the Arvin—Bear Mountain monitoring site (i.e., Arvin—Di Giorgio) has been in operation since prior to the closure of the Arvin—Bear Mountain monitoring site.

³⁵ See letter from Karen Magliano, Chief, Air Quality Planning and Science Division, California Air Resources Board, to Meredith Kurpius, Manager, Air Quality Analysis Office, EPA Region IX, dated April 29, 2016.

³⁶ See letter from Meredith Kurpius, Manager, Air Quality Analysis Office, EPA Region IX, to Karen Magliano, Chief, Air Quality Planning and Science Division, California Air Resources Board, dated May 2, 2016.

III. Proposed Action and Request for Public Comment

The EPA is proposing to determine that the San Joaquin Valley has attained the 1-hour ozone standard based on sufficient, quality-assured and certified ambient air quality monitoring data for the 2012-2014 monitoring period. Preliminary data for 2015 are consistent with the continued attainment of the standard in San Joaquin Valley.

If we finalize this determination as proposed, to the extent not already fulfilled, the requirements for the state to submit attainment demonstrations and associated reasonably available control measures, reasonable further progress plans, contingency measures for failure to attain or make reasonable progress and other plans related to attainment of the 1-hour ozone standard for San Joaquin Valley shall be suspended until such time as the area is redesignated as attainment for the current ozone NAAQS or a redesignation substitute for the 1-hour ozone standard is approved, at which time the requirements no longer apply.³⁷ If, however, prior to such redesignation or approval of such redesignation substitute, the EPA determines that San Joaquin Valley has violated the 1-hour ozone NAAQS, then the area is again required to submit such attainment-related plans.³⁸

³⁷ See 40 CFR 51.1118.

³⁸ Id.

The EPA is soliciting public comments on the issues discussed in this document or on other relevant matters. We will accept comments from the public on this proposal for the next 30 days. We will consider these comments before taking final action.

IV. Statutory and Executive Order Reviews

This action proposes to make a determination based on air quality data and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and,

• Does not provide the EPA with the discretionary authority to address, as appropriate, disproportionate human health or environmental effects, using practicable and legally permissible methods, under Executive Order 12898 (59 FR 7629, February 16, 1994).

In addition, this proposed clean data determination does not have tribal implications as specified by Executive Order 13175 (65 FR 67249, November 9, 2000), and will not impose substantial direct costs on tribal governments or preempt tribal law.

List of Subjects in 40 CFR Part 52

Environmental protection, Air pollution control, Incorporation by reference, Intergovernmental relations, Oxides of nitrogen, Ozone, Volatile organic compounds.

Dated: May 3, 2016.
Jared Blumenfeld,
Regional Administrator, Region IX.

[FR Doc. 2016-11630 Filed 5-17-16; 8:45 am]

BILLING CODE 6560-50-P